DEPARTMENT OF COMMERCE

National Oceanic and Atmospheric Administration

Science Advisory Board Meeting

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time And Date: The meeting will be held Tuesday December 5, 2006, from 10:30 a.m. to 4:30 p.m. and Wednesday December 6, 2006, from 8:30 a.m. to 4:30 p.m. These times and the agenda topics described below are subject to change. Please refer to the Web page http://www.sab.noaa.gov/Meetings/meetings.html for the most up-to-date meeting agenda.

Place: The meeting will be held both days at the Courtyard by Marriott, 8506 Fenton Street, Silver Spring, Maryland 20910.

Status: The meeting will be open to public participation with a 30-minute public comment period on December 5 (check Web site to confirm time). The SAB expects that public statements presented at its meetings will not be repetitive of previously submitted verbal or written statements. In general, each individual or group making a verbal presentation will be limited to a total time of five (5) minutes. Written comments (at least 35 copies) should be received in the SAB Executive Director's Office by November 27, 2006 to provide sufficient time for SAB review. Written comments received by the SAB Executive Director after November 27 will be distributed to the SAB, but may not be reviewed prior to the meeting date. Seats will be available on a first-come, first-served basis.

Matters To Be Considered: The meeting will include the following topics: (1) The Revision of NOAA Information Quality Guidelines to Conform with the OMB Peer Review Bulletin; (2) NOAA High Performance Computing Needs; (3) NOAA Space-Based Sensors; (4) Sound in the Marine Environment and Associated Science Challenges and Opportunities for NOAA; (5) the NOAA Hurricane Intensity Research Working Group (HIRWG) and National Science Foundation (NSF) National Science Board Hurricane Reports; (6) Research Goals to Improve Operational Support of Wildland Fire Management; (7) the NOAA Five-Year Research Plan and (8) Reviews of the NOAA Cooperative Institutes and the SAB's Role in them.

FOR FURTHER INFORMATION CONTACT: Dr. Cynthia Decker, Executive Director, Science Advisory Board, NOAA, Rm. 11230, 1315 East-West Highway, Silver Spring, Maryland 20910. (Phone: 301-713-9121, Fax: 301-713-3515, E-mail: Cynthia.Decker@noaa.gov); or visit the NOAA SAB Web site at http://www.sab.noaa.gov.

Dated: November 2, 2006.
Mark E. Brown,
Chief Financial Officer and Chief Administrative Officer, Office of Oceanic and Atmospheric Research, National Oceanic and Atmospheric Administration.

[FR Doc. E6-18869 Filed 11-7-06; 8:45 am]

BILLING CODE 3510-22-P